DEPARTMENT OF EDUCATION

[Docket No.: ED-2023-SCC-0125]

Agency Information Collection Activities; Submission to the Office of Management and Budget for Review and Approval; Comment Request; National Implementation Study of Student Support and Academic Enrichment Grants (Title IV, Part A)

AGENCY: Institute of Education Sciences (IES), Department of Education (ED).

ACTION: Notice.

SUMMARY: In accordance with the Paperwork Reduction Act (PRA) of 1995, the Department is proposing a revision of a currently approved information collection request (ICR).

DATES: Interested persons are invited to submit comments on or before October 30, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Claire Allen-Platt, (202) 987-1090.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Implementation Study of Student Support and Academic Enrichment Grants (Title IV, Part A).

OMB Control Number: 1850-0968.

Type of Review: Revision of a currently approved ICR.

Respondents/Affected Public: State, local, and Tribal governments.

Total Estimated Number of Annual Responses: 356.

Total Estimated Number of Annual Burden Hours: 172.

Abstract: This study will collect information about policy and program implementation of the grants administered under title IV, part A of the Elementary and Secondary Education Act of 1965, as amended by the Every Student Succeeds Act (ESSA), to describe and report on districts' decision-making process for use of title IV, part A funds, how states help inform districts' decisions, and what topic areas and activities are funded with title IV, part A funds. The revision will amend the study to eliminate an optional survey planned for 2024 and add a new information collection. The new collection will obtain information about a new grant administered through title IV-A, the Bipartisan Safer Communities Act (BSCA) Stronger Connections (SC) grant program, which awards funds to states and districts to promote safer, more inclusive learning environments and support the social, emotional, physical, and mental health of students.

Dated: September 25, 2023.
Stephanie Valentine,
PRA Coordinator, Strategic Collections and Clearance, Governance and Strategy Division, Office of Chief Data Officer, Office of Planning, Evaluation and Policy Development.

[FR Doc. 2023-21336 Filed 9-28-23; 8:45 am]

BILLING CODE 4000-01-P